DEPARTMENT OF THE INTERIOR

Bureau of Land Management

[MT-059-1430-ES, MTM-87802]

Order Opening Lands in Montana to Disposal by Recreation and Public Purposes Act

AGENCY: Bureau of Land Management, DOI.

ACTION: Opening order.

SUMMARY: This notice opens lands to disposal by Recreation and Public Purposes Act.

EFFECTIVE DATE: Immediately upon publication.

FOR FURTHER INFORMATION CONTACT: Angela Perry, Dillon Field Office, BLM, 1005 Selway Drive, Dillon, MT 59725-9431, (406) 683-8045.

SUPPLEMENTARY INFORMATION: On February 10, 1998, the land described below was segregated from appropriation under the public land laws and mining laws as part of exchange proposal MTM-87802. This parcel was subsequently dropped from the exchange. The segregation affecting these lands is hereby terminated. The lands are opened only to disposal by Recreation and Public Purpose Act (Act of June 14, 1926, 43 U.S.C. 869):

Principal Meridian, Montana

T. 6 S., R. 3 W., sec. 21, lot 8; sec. 22, lot 14 Containing 5.04 acres

Scott Powers,
Dillon Field Manager.

[FR Doc. 01-18766 Filed 7-26-01; 8:45 am]

BILLING CODE 4510-HC-P